DEPARTMENT OF ENERGY

Federal Energy Regulatory Commission

[Docket No. RP01-298-001]

Williams Gas Pipelines Central, Inc.; Notice of Compliance Filing

October 19, 2001.

Take notice that on October 15, 2001 Williams Gas Pipelines Central, Inc. (Williams) tendered for filing as part of its FERC Gas Tariff, Original Volume No. 1, the following tariff sheets to become effective October 1, 2001:

Second Revised Sheet No. 281

Second Revised Sheet No. 405

Second Revised Sheet No. 406

Second Revised Sheet No. 413

Second Revised Sheet No. 414

Second Revised Sheet No. 421

Second Revised Sheet No. 422

Second Revised Sheet No. 428

Second Revised Sheet No. 429

Second Revised Sheet No. 480

Second Revised Sheet No. 481

Second Revised Sheet No. 482

Second Revised Sheet No. 483

Williams states that this filing is being made to comply with the Commission's October 1, 2001 order in the above referenced docket in order to allow Williams to contract for minimum delivery pressure obligations with customers where mutually agreeable on a non-discriminatory basis. The filing revises tariff sheets to incorporate an agreed upon pressure commitment, if any, into the service agreements for Williams' TSS, STS, SFT and FTS services, as well as a change to Section 20 of Williams' General Terms and Conditions to allow for the exception of mutually agreed pressure commitments in transport agreements, as agreed to by the parties and conditioned by the orders in this proceeding.

Williams states that copies of the revised tariff sheet are being mailed to Williams' jurisdictional customers and interested state commissions.

Any person desiring to protest said filing should file a protest with the Federal Energy Regulatory Commission, 888 First Street, NE., Washington DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-26858 Filed 10-24-01; 8:45 am]

BILLING CODE 6717-01-M